DEPARTMENT OF COMMERCE

International Trade Administration

[A-570-890]

Wooden Bedroom Furniture From the People's Republic of China: Initiation of New Shipper Review

AGENCY: Import Administration, International Trade Administration, Department of Commerce.

DATES: Effective Date: September 9, 2008.

SUMMARY: The Department of Commerce (the “Department”) has determined that a request for a new shipper review of the antidumping duty order on wooden bedroom furniture from the Peoples Republic of China (“PRC”), received on July 11, 2008, meets the statutory and regulatory requirements for initiation. The period of review (“POR”) of this new shipper review is January 1, 2008, through June 30, 2008.

FOR FURTHER INFORMATION CONTACT: Demitrios Kalogeropoulos or Robert Boiling, AD/CVD Operations, Office 8, Import Administration, International Trade Administration, U.S. Department of Commerce, 14th Street and Constitution Avenue, NW., Washington, DC 20230; telephone: (202) 482-2623 and (202) 482-4207, respectively.

SUPPLEMENTARY INFORMATION:

Background

The notice announcing the antidumping duty order on wooden bedroom furniture from the PRC was published on January 4, 2005. See Notice of Amended Final Determination of Sales at Less Than Fair Value and Antidumping Duty Order: Wooden Bedroom Furniture From the People's Republic of China, 70 FR 329 (January 4, 2005). On July 11, 2008, we received a timely request for a new shipper review from Shanghai Fangjia Industry Co., Ltd. (“Shanghai Fangjia”) in accordance with 19 CFR 351.214(c) and 351.214(d)(2). Shanghai Fangjia has certified that it purchased from Jiangsu Danyang Brilliant Furniture Co., Ltd. (“Brilliant Furniture”) all of the wooden bedroom furniture it exported which is the basis for its request for a new shipper review.

Initiation of New Shipper Review

Pursuant to section 751(a)(2)(B)(i)(I) of the Tariff Act of 1930, as amended (“the Act”), and 19 CFR 351.214( )(2), Shanghai Fangjia certified that it did not export wooden bedroom furniture to the United States during the period of investigation (“POI”). Pursuant to section 751(a)(2)(B)(i)(I) of the Act and 19 CFR 351.214(b)(2)(iii)(A), Shanghai Fangjia certified that, since the initiation of the investigation, it has not been affiliated with any exporter or producer who exported wooden bedroom furniture to the United States during the POT, including those not individually examined during the investigation. As required by 19 CFR 351.214(b)(2)(iii)(B), Shanghai Fangjia also certified that its export activities were not controlled by the central government of the PRC.

In addition to the certifications described above, the exporter submitted documentation establishing the following: (1) The date on which it first shipped wooden bedroom furniture for export to the United States and the date on which the wooden bedroom furniture was first entered, or withdrawn from warehouse, for consumption; (2) the volume of its first shipment; and (3) The date of its first sale to an unaffiliated customer in the United States.

Pursuant to section 751(a)(2)(B) of the Act and 19 CFR 351.214(d)(1), we are initiating this new shipper review for shipments of wooden bedroom furniture from the PRC produced and exported by Shanghai Fangjia.

The POR is January 1, 2008, through June 30, 2008. 19 CFR 351.214(g)(1)(i)(B). We intend to issue preliminary results of these reviews no later than 180 days from the date of initiation, and final results of these reviews no later than 90 days from the date of the preliminary results, unless extended. See section 751(a)(2)(B)(iv) of the Act.

On August 17, 2006, the Pension Protection Act of 2006 (“H.R. 4”) was signed into law. Section 1632 of H.R. 4 temporarily suspends the authority of the Department to instruct U.S. Customs and Border Protection to collect a bond or other security in lieu of a cash deposit in new shipper reviews during the period April 1, 2006, through June 30, 2009. Therefore, the posting of a bond or other security under section 751(a)(2)(B)(iii) of the Act in lieu of a cash deposit is not available in this case. Importers of wooden bedroom furniture manufactured by Brilliant Furniture and exported by Shanghai Fangjia must continue to post a cash deposit of estimated antidumping duties on each entry of subject merchandise at the current PRC-wide rate of 216.01 percent.

Interested parties requiring access to proprietary information in this new shipper review should submit applications for disclosure under administrative protective order in accordance with 19 CFR 351.305 and 351.306. This initiation and notice are in accordance with section 751(a)(2)(B) of the Act and 19 CFR 351.214 and 351.221(c)(1)(i).

Dated: August 26, 2008.
Stephen J. Claeys,
Deputy Assistant Secretary for Import Administration.

[FR Doc. E8-20541 Filed 9-8-08; 8:45 am]

BILLING CODE 3510-DS-M